DEPARTMENT OF TRANSPORTATION

Federal Aviation Administration

Public Notice for Waiver of Aeronautical Land-Use Assurance; Ohio State University Airport, Columbus, OH

AGENCY: Federal Aviation Administration, DOT.

ACTION: Notice of intent of waiver with respect to land.

SUMMARY: The Federal Aviation Administration (FAA) is considering a proposal to change a portion of the Ohio State University Airport from aeronautical use to non-aeronautical use and to authorize the swap of the airport property. The proposal consists of the swap of vacant, unimproved land owned by the State of Ohio (State) for land owned by the Board of Trustees of the Ohio State University (University).

The State has requested from FAA a “Release from Federal agreement obligated land covenants” to swap one (1) parcel of property acquired by the State without Federal funding for three (3) parcels owned by the University.

The above mentioned land is not needed for aeronautical use, as shown on the Airport Layout Plan. There are no impacts to the airport by allowing the State to dispose of the vacant property. Approval does not constitute a commitment by the FAA to financially assist in the disposal of the airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before January 30, 2012.

ADDRESSES: Documents reflecting this FAA action may be reviewed at the Detroit Airports District Office, 11677 South Wayne Road, Suite 107, Romulus, Michigan 48174.

FOR FURTHER INFORMATION CONTACT: Mr. David J. Welhouse, Program Manager, Detroit Airports District Office, 11677 South Wayne Road, Suite 107, Romulus, Michigan 48174. Telephone Number (734) 229-2952/Fax Number (734) 229-2950.

SUPPLEMENTARY INFORMATION: Following is a legal description of the property located in the City of Columbus, Franklin County, Ohio, and described as follows:

Description of Parcel 30B Being Released (9.009 Acres)

Situate in the State of Ohio, County of Franklin, City of Columbus lying in Quarter Township 4, Township 2 North, Range 19 West, United States Military District, being part of the 49.198 acre tract conveyed to The State of Ohio for the use and benefit of The Ohio State University of record in Instrument Number 200907280110625, (all records herein are from the Recorder's Office, Franklin County, Ohio) and being bounded and more particularly described as follows:

Begin for reference at the intersection of the centerline of Federated Boulevard (100 feet in width) and the centerline of Dublin-Granville Road (State Route 161) (varies in width) of record in Plat Book 64, Pages 19 and 20;

Thence the following two (2) courses and distances along the centerline of said Dublin-Granville Road;

1. South 76° 02′ 22″ East, a distance of 862.52 feet to an angle point;

2. South 79° 49′ 22″ East, a distance of 195.69 feet, to a point being at northwesterly corner of an original 76.063 acre tract conveyed to The Board of Trustees of The Ohio State University by deed of record in Deed Book 2881, Page 455;

Thence South 03° 44′ 43″ West, a distance of 1832.48 feet, along the westerly line of said 76.063 acre tract, a line common to a 27.026 acre tract (Tract II) conveyed to the Board of Trustees of the Ohio State University by deed of record in Official Record 8726 B03 and said original 30.539 acre tract passing a ¾ inch iron pipe found at 30.26 feet on the southerly right-of-way line of said Dublin-Granville Road, to a ¾ inch iron pipe found on the northwesterly on the northwesterly line of said 49.198 acre tract;

Thence the following three (3) courses and distances along the said 49.198 acre tract:

1. North 46° 40′ 09″ East, a distance of 236.55 feet, along a westerly line of said 49.198 acre tract to a ¾ inch iron pipe found;

2. South 34° 42′ 36″ East, a distance of 188.90 feet, to a ¾ inch iron pipe found;

3. North 04° 04′ 31″ East, a distance of 145.41 feet, to a ¾ inch iron pipe set at the Point of True Beginning for the herein described tract:

Thence the following three (3) courses and distances continuing along the said 49.198 acre tract:

1. North 04° 04′ 31″ East, a distance of 377.62 feet, to a ¾ inch iron pipe found;

2. South 86° 01′ 05″ East, a distance of 1031.25 feet, to a ¾ inch iron pipe found;

3. South 03° 28′ 31″ West, a distance of 381.99 feet, to a ¾ inch iron pipe set;

Thence North 85° 46′ 36″ West, a distance of 1035.25 feet, across the said 49.198 acre tract to the Point of True Beginning, containing 9.009 acres more or less, which lies in Auditor's Tax Parcel 610-288199 and being subject to all easements, restrictions and rights-of-way of record.

The bearings shown herein are based on the Grid Bearing of North 79° 49′ 22″ West for the centerline of Dublin-Granville Road, as established by a GPS network of field observations performed in August 2003, (State Plane Coordinate System, South Zone, 1986 adjustment, NAD 83).

Issued in Romulus, Michigan, on November 30, 2011.
John L. Mayfield, Jr.,
Manager, Detroit Airports District Office, FAA, Great Lakes Region.

[FR Doc. 2011-33469 Filed 12-28-11; 8:45 am]

BILLING CODE 4910-13-P